DEPARTMENT OF TRANSPORTATION

Federal Aviation Administration

14 CFR Part 39

[Docket No. FAA-2013-0753; Directorate Identifier 2013-CE-025-AD]

RIN 2120-AA64

Airworthiness Directives; Beechcraft Corporation Airplanes

AGENCY: Federal Aviation Administration (FAA), DOT.

ACTION: Notice of proposed rulemaking (NPRM).

SUMMARY: We propose to adopt a new airworthiness directive (AD) for certain Beechcraft Corporation (type certificate previously held by Hawker Beechcraft Corporation) Models 1900, 1900C, and 1900D airplanes. This proposed AD was prompted by reports of cracking in the front spar cap angles and hat section structure of the vertical stabilizer. This proposed AD would require inspections of the vertical stabilizer spar angles and hat section for cracks with corrective actions as necessary. We are proposing this AD to correct the unsafe condition on these products.

DATES: We must receive comments on this proposed AD by October 11, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Beechcraft Corporation at address: 10511 E. Central, Wichita, Kansas 67206; phone: (800) 429-5372 or (316) 676-3140; Internet: http://www.beechcraft.com/customer_support/contact_us/. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Paul Chapman, Aerospace Engineer, Wichita Aircraft Certification Office, FAA, 1801 Airport Road, Room 100, Wichita, Kansas 67209; phone: (316) 946-4152; fax: (316) 946-4107; email: paul.chapman@faa.gov.

SUPPLEMENTARY INFORMATION:

Comments Invited

We invite you to send any written relevant data, views, or arguments about this proposal. Send your comments to an address listed under the ADDRESSES section. Include “Docket No. FAA-2013-0753; Directorate Identifier 2013-CE-025-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We were notified by Beechcraft Corporation of cracks found in the vertical stabilizer structure of Models 1900, 1900C, and 1900D airplanes. Out of 140 airplanes inspected, 56 cracks have been found. This condition, if not corrected, could lead to structural failure of the vertical stabilizer and result in loss of control.

Relevant Service Information

We reviewed Hawker Beechcraft Mandatory Service Bulletin SB 55-4114, dated August 2012; Hawker Beechcraft Corporation Model 1900/1900C Airliner Structural Inspection Manual, Part Number 98-30937G2, dated May 1, 2013; and Beechcraft Corporation Model 1900D Airliner Structural Inspection Manual, Part Number 129-590000-65E5, dated May 1, 2013. The service information describes procedures for visually inspecting the vertical stabilizer spar angles and hat section.

FAA's Determination

We are proposing this AD because we evaluated all the relevant information and determined the unsafe condition described previously is likely to exist or develop in other products of the same type design.

Proposed AD Requirements

This proposed AD would require doing visual inspections of the vertical stabilizer spar angles and hat section for cracks and taking corrective actions as necessary.

Costs of Compliance

We estimate that this proposed AD affects 400 airplanes.

We estimate the following costs to comply with this proposed AD:

Estimated Costs
Action | Labor cost | Parts cost | Cost per product | Cost on U.S. operators
Visual inspection of the vertical stabilizer spar angles and hat section | 1.5 work-hours × $85 per hour = $127.50 | Not applicable | $127.50 | $51,000

We estimate the following costs to do any necessary repairs that would be required based on the results of the proposed inspection. We have no way of determining the number of aircraft that might need these repairs:

On-Condition Costs
Action | Labor cost | Parts cost | Cost per product
Repair of the spar cap (right hand or left hand) | 30 work-hours × $85 per hour = $2,550 | $600 | $3,150

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Beechcraft Corporation (Type Certificate Previously Held by Hawker Beechcraft Corporation): Docket No. FAA-2013-0753; Directorate Identifier 2013-CE-025-AD.

(a) Comments Due Date

We must receive comments by October 11, 2013.

(b) Affected ADs

None.

(c) Applicability

This AD applies to the following Beechcraft Corporation airplanes, certificated in any category:

Model | Serial No.
1900 | UA-3.
1900C | UB-1 through UB-74, UC-1 through UC-174-6.
1900C (C-12J) | UD-1 through UD-6.
1900D | UE-1 through UE-439.

(d) Subject

Joint Aircraft System Component (JASC)/Air Transport Association (ATA) of America Code 55, Stabilizers.

(e) Unsafe Condition

This AD was prompted by reports of cracking in the front spar cap angles and hat section of the vertical stabilizer structure. We are issuing this AD to detect and correct cracking in the vertical stabilizer structure, which could lead to structural failure of the vertical stabilizer and result in loss of control.

(f) Compliance

Comply with this AD within the compliance times specified, unless already done.

(g) Visual Inspections

(1) For all airplanes: Within the next 600 hours time-in-service (TIS) after the effective date of this AD, inspect part number (P/N) 101-640011-3/-4 spar angles and P/N 114-640000-25/-26 hat section for cracks following the Accomplishment Instructions in paragraph 3.A. of Hawker Beechcraft Mandatory Service Bulletin SB 55-4114, dated August 2012.

(2) For Models 1900 and 1900C airplanes: Within 1,200 hours TIS after the initial inspection required in paragraph (g)(1) of this AD or within 2 years after the initial inspection required in paragraph (g)(1) of this AD, whichever occurs first, and repetitively thereafter at intervals not to exceed 1,200 hours TIS or 2 years, whichever occurs first, inspect P/N 101-640011-3 and P/N 101-640011-4 spar cap angles for cracks. Follow Procedure 8 under Vertical Stabilizer in the “I” Check Procedures of Hawker Beechcraft Corporation Model 1900/1900C Airliner Structural Inspection Manual, Part Number 98-30937G2, dated May 1, 2013.

(3) For Models 1900 and 1900C airplanes: Within 1,200 hours TIS after the initial inspection required in paragraph (g)(1) of this AD or within 2 years after the initial inspection required in paragraph (g)(1) of this AD, whichever occurs first, and repetitively thereafter at intervals not to exceed 1,200 hours TIS or 2 years, whichever occurs first, inspect P/N 114-640000-25 and P/N 114-640000-26 hat section for cracks. Follow Procedure 9 under Vertical Stabilizer in the “I” Check Procedures of Hawker Beechcraft Corporation Model 1900/1900C Airliner Structural Inspection Manual, Part Number 98-30937G2, dated May 1, 2013.

(4) For Model 1900D airplanes: Within 1,200 hours TIS after the initial inspection required in paragraph (g)(1) of this AD or within 2 years after the initial inspection required in paragraph (g)(1) of this AD, whichever occurs first, and repetitively thereafter at intervals not to exceed 1,200 hours TIS or 2 years, whichever occurs first, inspect P/N 101-640011-3 and P/N 101-640011-4 spar cap angles for cracks. Follow Procedure 6.b. under Vertical Stabilizer Canted Stabilizer Station (CSS 69.184 through VSS 91.10) in the “I” Check Procedures of Beechcraft Corporation Model 1900D Airliner Structural Inspection Manual, Part Number 129-590000-65E5, dated May 1, 2013.

(5) For Model 1900D airplanes: Within 1,200 hours TIS after the initial inspection required in paragraph (g)(1) of this AD or within 2 years after the initial inspection required in paragraph (g)(1) of this AD, whichever occurs first, and repetitively thereafter at intervals not to exceed 1,200 hours TIS or 2 years, whichever occurs first, inspect P/N 114-640000-25 and P/N 114-640000-26 hat section for cracks. Follow Procedure 6.c. under Vertical Stabilizer Canted Stabilizer Station (CSS 69.184 through VSS 91.10) in the “I” Check Procedures of Beechcraft Corporation Model 1900D Airliner Structural Inspection Manual, Part Number 129-590000-65E5, dated May 1, 2013.

(h) Repair

If any cracks are found during any of the inspections required in paragraph (g) of this AD, to include all subparagraphs, before further flight, you must contact Beechcraft Corporation to obtain repair instructions approved by the Wichita Aircraft Certification Office (ACO) specifically for compliance with this AD and incorporate those instructions. You can find contact information for Beechcraft Corporation in paragraph (k)(1) of this AD.

(i) Special Flight Permit

If cracks are found during any of the inspections required in paragraph (g) of this AD, to include all subparagraphs, the FAA may allow a one-time special flight permit to a repair facility depending on the cracking found. You must contact Beechcraft Corporation and provide them with crack detail information for them to determine residual strength of the airplane before applying to the FAA for a special flight permit. You can find contact information for Beechcraft Corporation in paragraph (k)(1) of this AD.

(j) Alternative Methods of Compliance (AMOCs)

(1) The Manager, Wichita ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

(1) For more information about this AD, contact Paul Chapman, Aerospace Engineer, Wichita Aircraft Certification Office, FAA, 1801 Airport Road, Room 100, Wichita, Kansas 67209; phone: (316) 946-4152; fax: (316) 946-4107; email: paul.chapman@faa.gov.

(2) For service information identified in this AD, contact Beechcraft Corporation at address: 10511 E. Central, Wichita, Kansas 67206; phone: (800) 429-5372 or (316) 676-3140; Internet: http://www.beechcraft.com/customer_support/contact_us/. You may review copies of the referenced service information at the FAA, Small Airplane Directorate, 901 Locust, Kansas City, Missouri 64106. For information on the availability of this material at the FAA, call (816) 329-4148.

Issued in Kansas City, Missouri, on August 20, 2013.
Earl Lawrence,
Manager, Small Airplane Directorate, Aircraft Certification Service.

[FR Doc. 2013-20853 Filed 8-26-13; 8:45 am]

BILLING CODE 4910-13-P